Title 3—

The President

Proclamation 9476 of August 24, 2016

Establishment of the Katahdin Woods and Waters National Monument

By the President of the United States of America

A Proclamation

In north central Maine lies an area of the North Woods known in recent years as the Katahdin Woods and Waters Recreation Area (Katahdin Woods and Waters), approximately 87,500 acres within a larger landscape already conserved by public and private efforts starting a century ago. Katahdin Woods and Waters contains a significant piece of this extraordinary natural and cultural landscape: the mountains, woods, and waters east of Baxter State Park (home of Mount Katahdin, the northern terminus of the Appalachian Trail), where the East Branch of the Penobscot River and its tributaries, including the Wassataquoik Stream and the Seboeis River, run freely. Since the glaciers retreated 12,000 years ago, these waterways and associated resources—the scenery, geology, flora and fauna, night skies, and more—have attracted people to this area. Native Americans still cherish these resources. Lumberjacks, river drivers, and timber owners have earned their livings here. Artists, authors, scientists, conservationists, recreationists, and others have drawn knowledge and inspiration from this landscape.

Katahdin Woods and Waters contains objects of significant scientific and historic interest. For some 11,000 years, Native peoples have inhabited the area, depending on its waterways and woods for sustenance. They traveled during the year from the upper reaches of the East Branch of the Penobscot River and its tributaries to coastal destinations like Frenchman and Penobscot Bays. Native peoples have traditionally used the rivers as a vast transportation network, seasonally searching for food, furs, medicines, and many other resources. Based on the results of archeological research performed in nearby areas, researchers believe that much of the archeological record of this long Native American presence in Katahdin Woods and Waters remains to be discovered, creating significant opportunity for scientific investigation. What is known is that the Wabanaki people, in particular the Penobscot Indian Nation, consider the Penobscot River (including the East Branch watershed) a centerpiece of their culture and spiritual values.

The first documented Euro-American exploration of the Katahdin region dates to a 1793 survey commissioned by the Commonwealth of Massachusetts. After Maine achieved statehood in 1820, Major Joseph Treat, guided by John Neptune of the Penobscot Tribe, produced the first detailed maps of the region. The Maine Boundary Commission authorized a survey of the new State in 1825, for which surveyor Joseph C. Norris, Sr., and his son established the “Monument Line,” which runs through Katahdin Woods and Waters and serves as the State's east-west baseline from which township boundaries are drawn.

By the early 19th century until the late 20th century, logging was a way of life throughout the area, as exemplified by the history of logging along the Wassataquoik Stream. To access the upstream forests, a tote road was built on the Wassataquoik's north bank around 1841; traces of the old road can still be seen in places. The earliest loggers felled enormous white pines and then “drove” them down the tumultuous stream. Beginning in the 1880s, after the choice pines were gone, the loggers switched to spruce long logs, and built camps, depots, and many dams on the Wassataquoik to control its flow for the log drives. Remnants of the Dacey and Robar Dams have been found, and discovery of more logging remnants and historic artifacts is likely. Log driving was dangerous, and many men died on the river and were buried nearby. A large fire in 1884 damaged logging operations on the Wassataquoik, and an even larger fire in 1903 put an end to the long log operations. Pulpwood operations resumed in 1910 but ceased in 1915. Other streams, like Sandy Stream, have similar logging histories.

The East Branch of the Penobscot River and its major tributaries served as a thoroughfare for huge log drives headed toward Bangor. Log drives ended (based primarily on environmental concerns) in the 1970s, after which the timber companies relied on trucking and a network of private roads they started to build in the 1950s.

In the 1800s, the infrastructure that developed to support the logging industry also drew hunters, anglers, and hikers to the area. In the 1830s, within 2 miles of one another on the eastern side of the Penobscot East Branch, William Hunt and Hiram Dacey established farms to serve loggers, which soon also served recreationists, scientists, and others who wanted to explore the Katahdin region or climb its mountains. Just across the East Branch from the Hunt and Dacey Farms (the latter now the site of Lunksoos Camps) lies the entrance to the Wassataquoik Stream. In 1848, the Reverend Marcus Keep established what is still called Keep Path, running along the Wassataquoik to Katahdin Lake and on to Mount Katahdin. From that time until the end of the 19th century, the favored entryway to the Katahdin region started on the east side of Mount Katahdin with a visit to Hunt or Dacey Farm, then crossed the East Branch and ascended the valley of the Wassataquoik Stream.

Henry David Thoreau—who made the “Maine Woods” famous through his publications—approached from the headwaters of the East Branch to the north. With his Penobscot guide Joe Polis and companion Edward Hoar in 1857, on his last and longest trip to the area, he paddled past Dacey Farm with just a brief stop at Hunt Farm. He wrote about his two nights in the Katahdin Woods and Waters area—the first at what he named the “Checkerberry-tea camp,” near the oxbow just upriver from Stair Falls, and the second on the river between Dacey and Hunt Farms where he drank hemlock tea.

During his 1879 Maine trip on which he summited Mount Katahdin, Theodore Roosevelt followed the route across the East Branch and up the Wassataquoik. As Roosevelt later recalled, he lost one of his hiking boots crossing the Wassataquoik but, undaunted, completed the challenging trek in moccasins. Many including Roosevelt himself have observed that his several trips to the Katahdin region in the late 1870s had a significant impact on his life, as he overcame longstanding health problems, gained strength and stamina, experienced the wonder of nature and the desire to conserve it, and made friends for life from the Maine Woods.

Native Mainer Percival P. Baxter, too, followed this route on the 1920 trip that solidified his determination to create a large park from this landscape. Burton Howe, a Patten lumberman, organized this trip of Maine notables, who stayed at Lunksoos Camps before their ascent via the established route. As a State representative, senator, and governor, Baxter had proposed legislation to create a Mount Katahdin park in commemoration of the State's centennial, and the 1920 trip cemented his profound appreciation of the landscape. Spurned by the Maine legislature, Baxter devoted his life to acquiring 28 parcels of land, largely from timber companies who had heavily logged them, and donated them to the State with management instructions and an endowment, resulting in the establishment of Baxter State Park.

Artists and photographers have left indelible images of their time spent in the area. In 1832, John James Audubon canoed the East Branch and sketched natural features for his masterpiece Birds of America. Frederic Edwin Church, the preeminent landscape artist of the Hudson River School, first visited the area in the 1850s, and in 1877 invited his landscape-painter colleagues to join him on a well-publicized expedition from Hunt Farm up the Wassataquoik Stream to capture varied views of Mount Katahdin and environs. In the early 1900s, George H. Hallowell painted and photographed the log drives on the Wassataquoik Stream, and Carl Sprinchorn painted logging activities on the Seboeis River.

Geologists were among the earliest scientists to visit the area. While surveys were done in the 1800s, in-depth geological research and mapping of the area did not begin until the 1950s. These mid-20th century geologists found bedrock spanning over 150 million years of the Paleozoic era, revealing a remarkably complete exposure of Paleozoic rock strata with well-preserved fossils. The lands west of the Penobscot East Branch are dominated by volcanic and granitic rock from the Devonian period, mostly Katahdin Granite but also Traveler Rhyolite, a light-colored volcanic rock that is similar in composition to granite. The oldest rock in Katahdin Woods and Waters, a light greenish-gray quartzite interlayered with slate from the early Cambrian period (over 500 million years ago), can be observed along the riverbank of the Penobscot East Branch for over 1,000 feet at the Grand Pitch (a river rapid). This rock is part of the Weeksboro-Lunksoos Lake anticline, a broad upward fold of rocks originally deposited horizontally, which is evidence of mountain-building tectonics. The fold continues north along the river and then turns northeast toward Shin Pond, exposing successive bands of younger Paleozoic rock of both volcanic and sedimentary origin on either side of the structure.

Various formations in the area provide striking visual evidence of marine waters in Katahdin Woods and Waters during the geologic periods that immediately followed the Cambrian period. For example, Owen Brook limestone, an outcrop of calcareous bedrock west of the Penobscot East Branch containing fossil brachiopods, is of coral reef origin. Pillow lavas, such as those near the summit of Lunksoos Mountain, were produced by underwater eruptions. Haskell Rock, the 20-foot-tall pillar in the midst of a Penobscot East Branch rapid, is conglomerate bedrock that suggests a time of dynamic transition from volcanic islands to an ocean with underwater sedimentation. This conglomerate, deposited about 450 million years ago, contains volcanic and sedimentary stones of various sizes, and occurs in outcrops and boulders in several locations.

The area's geology also provides prominent evidence of large and powerful earth-changing events. During the Paleozoic era (541 to 252 million years ago), mountain-building events contributed to the rise of the primordial Appalachian Mountain range and the amalgamation of the supercontinent Pangaea. Following the last mountain-building event, significant erosion reshaped the topography, helping to expose the cores of volcanoes, the Katahdin pluton, and the structure of the previous mountain-building events. About 200 million years ago, Pangaea began splitting apart as the Atlantic Ocean appeared and North America, Europe, and Africa formed. Today, the International Appalachian Trail, a long-distance hiking trail, seeks to follow the ancestral Appalachian-Caledonian Mountains on both sides of the Atlantic, starting at Katahdin Lake in Baxter State Park near the northern end of the domestic Appalachian Trail, traversing Katahdin Woods and Waters for about 30 miles, and proceeding through Canada for resumption across the Atlantic.

In more recent geological history, during the approximately 2.5 million year-long Pleistocene epoch that ended approximately 12,000 years ago, repeated glaciations covered the region, eroding bedrock and shaping the modern landscape. Glacial till from the most recent glaciations underlies much of the area's soil, moraines occur in several locations, and glacial erratics are common. Prominent eskers—long, snaking ridges of sand and gravel deposited by glacial meltwater—occur along most of the Penobscot East Branch and the Wassataquoik Stream. Glacial landforms, glacial scoured bedrock, and the lake sediments in the area, deposited only since the retreat of the last glaciers, record a history of intense climate change that gave rise to the modern topography of the area.

This post-glacial topography is studded with attractive small mountains, including some like Deasey, Lunksoos, and Barnard, that offer spectacular views of Mount Katahdin. Katahdin Woods and Waters abuts much of Baxter State Park's eastern boundary, extending the conservation landscape through shared mountains, streams, corridors for plants and animals, and other natural systems.

Among the defining natural features of Katahdin Woods and Waters is the East Branch of the Penobscot River system, including its major tributaries, the Seboeis River and the Wassataquoik Stream, and many smaller tributaries. Known as one of the least developed watersheds in the northeastern United States, the Penobscot East Branch River system has a stunning concentration of hydrological features in addition to its significant geology and ecology. From the northern boundary of Katahdin Woods and Waters, the main stem of the East Branch drops over 200 feet in about 10 miles through a series of rapids and waterfalls—including Stair Falls, Haskell Rock Pitch, Pond Pitch, Grand Pitch, the Hulling Machine, and Bowlin Falls.

After Bowlin Brook, the main stem declines more gently south toward Whetstone Falls and below, embroidered with many side channels and associated floodplain forests and open streamshores. Of the two major tributaries, the Seboeis River flows in from the east, and the Wassataquoik Stream from the west, the latter dropping over 500 feet in its approximately 14-mile wild run from the border of Baxter State Park to its confluence with the Penobscot East Branch main stem.

The extraordinary significance of the Penobscot East Branch River system has long been recognized. A 1977 Department of the Interior study determined that the East Branch of the Penobscot River, including the Wassataquoik Stream, qualifies for inclusion in the National Wild and Scenic Rivers System based on its outstandingly remarkable values, and a 1982 Federal-State study of rivers in Maine determined that the Penobscot East Branch River System, including both the Wassataquoik Stream and the Seboeis River, ranks in the highest category of natural and recreational rivers and possesses nationally significant resource values.

In recent years, a multi-party public-private project has taken steps to reconnect the Penobscot River with the sea through the removal and retrofitting of downstream dams. This river restoration will likely further enhance the integrity of the Penobscot East Branch river system, and provide opportunities for scientific study of the effects of the restoration on upstream areas within Katahdin Woods and Waters. It will also allow federally endangered Atlantic salmon to return to the upper reaches of the river known in the Penobscot language as “Wassetegweweck,” or “the place where they spear fish.” The return of ocean-run Atlantic salmon to this watershed would complement the exceptional native brook trout fishery for which Katahdin Woods and Waters is known today.

Katahdin Woods and Waters possesses significant biodiversity. Spanning three ecoregions, it displays the transition between northern boreal and southern broadleaf deciduous forests, providing a unique and important opportunity for scientific investigation of the effects of climate change across ecotones. The forests include mixed hardwoods like sugar maple, beech, and yellow birch; mixed forests with hardwoods, hemlock, and white pine; and spruce-fir forests with balsam fir, red spruce, and birches. In wetland areas, black spruce, white spruce, red maple, and tamarack dominate.

Although significant portions of the area have been logged in recent years, the regenerating forests retain connectivity and provide significant biodiversity among plant and animal communities, enhancing their ecological resilience. With the complex matrix of microclimates represented, the area likely contains the attributes needed to sustain natural ecological function in the face of climate change, and provide natural strongholds for species into the future. These forests also afford connections and scientific comparisons with the forests on adjacent State land, including Baxter State Park, which was logged heavily before its parcel-by-parcel purchase by former Governor Percival Baxter between 1931 and 1963.

Of particular scientific significance are the number and quality of small and medium-sized patch ecosystems throughout the area, tending to occur in less common topography that is often relatively remote or inaccessible. Hilltops and barrens often protect rare flora and fauna, such as the blueberry-lichen barren and associated spruce-heath barren found between Robar and Eastern Brooks, and the three-toothed cinquefoil-blueberry low summit bald atop Lunksoos Mountain, where rattlesnake hawkweed can be found. Cliffs and steep slopes, like those present along the ridge from Deasey Mountain to Little Spring Brook Mountain and on the eastern sides of Billfish and Traveler Mountains, harbor exemplary rock outcrop ecosystems that often include flora of special interest, such as fragrant cliff wood-fern and purple clematis. Ravines and coves can support enriched forests like the maple-basswood-ash community found below the eastern cliffs of Lunksoos Mountain, with trees over 250 years old and associated rare plants including squirrel-corn. The Appalachian-Acadian rivershore ecosystems of the Penobscot East Branch and its two major tributaries are considered exemplary in Maine, with occurrences of beautiful silver maple floodplain forest and hardwood river terrace forest—rare and imperiled natural communities, respectively, in the State. A nationally significant diversity of high quality wetlands and wet basins occurs throughout Katahdin Woods and Waters, including smaller streams and brooks, ponds, swamps, bogs, and fens. Patch forests of various types also occur throughout the area, such as a red-pine woodland forest on small hills and ridges amid the large Mud Brook Flowage wetland in the southwestern section.

The expanse of Katahdin Woods and Waters, augmented by its location next to other large conservation properties including Baxter State Park and additional State reservations, supports many wide-ranging wildlife species including ruffed grouse, moose, black bear, white-tailed deer, snowshoe hare, American marten, bobcat, bald eagle, northern goshawk, and the federally threatened Canada lynx. Seventy-eight bird species are known to breed in the area, and many more bird species use it. Visitation and study of the area have been limited to date, as compared with other areas like Baxter State Park, and many more species of birds and other wildlife may be present.

Certain wildlife species are known to occur in specific patch ecosystems in the area, such as the short-eared owl in hilltops and barrens, and the silver-haired bat and the wood turtle in floodplain forests. Mussels such as the tidewater mucket and yellow lampmussel live in some of the brooks and streams, and rare invertebrates like the copper butterfly, pygmy snaketail dragonfly, Tomah mayfly, and Roaring Brook mayfly inhabit some of its bogs and fens.

Katahdin Woods and Waters's daytime scenery is awe-inspiring, from the breadth of its mountain-studded landscape, to the channels of its free-flowing streams with their rapids, falls, and quiet water, to its vantages for viewing the Mount Katahdin massif, the “greatest mountain.” The area's night skies rival this experience, glittering with stars and planets and occasional displays of the aurora borealis, in this area of the country known for its dark sky.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, for the purpose of establishing a national monument to be administered by the National Park Service, Elliotsville Plantation, Inc. (EPI), has donated certain lands and interests in land within Katahdin Woods and Waters to the Federal Government;

WHEREAS, the Roxanne Quimby Foundation has established a substantial endowment with the National Park Foundation to support the administration of a national monument;

WHEREAS, Katahdin Woods and Waters is an exceptional example of the rich and storied Maine Woods, enhanced by its location in a larger protected landscape, and thus would be a valuable addition to the Nation's natural, historical, and cultural heritage conserved and enjoyed in the National Park System;

WHEREAS, it is in the public interest to preserve and protect the historic and scientific objects in Katahdin Woods and Waters;

NOW, THEREFORE, I, BARACK OBAMA, President of the United States of America, by the authority vested in me by section 320301 of title 54, United States Code, hereby proclaim the objects identified above that are situated upon lands and interests in lands owned or controlled by the Federal Government to be the Katahdin Woods and Waters National Monument (monument) and, for the purpose of protecting those objects, reserve as a part thereof all lands and interests in lands owned or controlled by the Federal Government within the boundaries described on the accompanying map entitled, “Katahdin Woods and Waters National Monument,” which is attached to and forms a part of this proclamation. The reserved Federal lands and interests in lands encompass approximately 87,500 acres. The boundaries described on the accompanying map are confined to the smallest area compatible with the proper care and management of the objects to be protected.

All Federal lands and interests in lands within the boundaries described on the accompanying map are hereby appropriated and withdrawn from all forms of entry, location, selection, sale, or other disposition under the public land laws, from location, entry, and patent under the mining laws, and from disposition under all laws relating to mineral and geothermal leasing.

The establishment of the monument is subject to valid existing rights, including the November 29, 2007, “Access Agreement” between EPI and the State of Maine, Department of Conservation that provides for certain public snowmobile use on specified parcels, and certain reservations of rights for Elliotsville Plantation, Inc., in specified parcels. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage these lands through the National Park Service, pursuant to applicable authorities and consistent with the valid existing rights and the purposes and provisions of this proclamation. As provided in the deeds, the Secretary shall allow hunting by the public on the parcels east of the East Branch of the Penobscot River in accordance with applicable law. The Secretary may restrict hunting in designated zones and during designated periods for reasons of public safety, administration, or resource protection. This proclamation will not otherwise affect the authority of the State of Maine with respect to hunting.

The Secretary shall prepare a management plan to implement the purposes of this proclamation, with full public involvement, within 3 years of the date of this proclamation. The Secretary shall use available authorities, as appropriate, to enter into agreements with others to address common interests and promote management needs and efficiencies.

Nothing in this proclamation shall be deemed to enlarge or diminish the rights of any Indian tribe. The Secretary shall, to the maximum extent permitted by law and in consultation with Indian tribes, ensure the protection of Indian sacred sites and cultural sites in the monument and provide access to the sites by members of Indian tribes for traditional cultural and customary uses, consistent with the American Indian Religious Freedom Act (42 U.S.C. 1996) and Executive Order 13007 of May 24, 1996 (Indian Sacred Sites).

Nothing in this proclamation shall be deemed to revoke any existing withdrawal, reservation, or appropriation; however, the monument shall be the dominant reservation.

Nothing in this proclamation shall preclude the use of existing low level Military Training Routes, consistent with applicable Federal Aviation Administration regulations and guidance for overflights of military aircraft, consistent with the care and management of the objects to be protected.

Warning is hereby given to all unauthorized persons not to appropriate, injure, destroy, or remove any feature of this monument and not to locate or settle upon any of the lands thereof.

IN WITNESS WHEREOF, I have hereunto set my hand this twenty-fourth day of August, in the year of our Lord two thousand sixteen, and of the Independence of the United States of America the two hundred and forty-first.

Billing code 3295-F6-P

[FR Doc. 2016-20786

Filed 8-26-16; 8:45 a.m.]

Billing code 4310-10-C